DEPARTMENT OF JUSTICE

DEPARTMENT OF LABOR

DEPARTMENT OF HEALTH AND HUMAN SERVICES

[OJP(OJP)-1320]

The Young Offender Initiative: Reentry Grant Program

AGENCY: Employment and Training Administration (ETA), Labor; Corrections Program Office (CPO), Office of Justice Programs (OJP), Justice; Center for Substance Abuse Treatment (CSAT) and Center for Mental Health Services (CMHS), Substance Abuse and Mental Health Services Administration (SAMSHA), Health and Human Services.

ACTION: Notice of funding availability.

SUMMARY: The Departments of Labor, Justice, and Health and Human Services are requesting applications for the Young Offender Initiative: Reentry Grant Program to enhance community safety through the successful reintegration to the community of offenders ages 14 to 35, who have been confined for a minimum of 12 consecutive months for adults or 6 consecutive months for juveniles, through a coordinated and comprehensive continuum of supervision, programs, and services. Approximately $79 million is available to fund approximately 25 grants of up to $3.1 million each to applicants that demonstrate a collaborative effort and broad-based community support.

DATES: Applications must be received by October 1, 2001, by 5:30 p.m. Eastern Standard Time.

ADDRESSES: All applications must be mailed or delivered to the Corrections Program Office, Office of Justice Programs, 810 7th Street, NW., 8th Floor, Washington, DC 20531. Faxed or e-mailed applications will not be accepted. Interested applicants may obtain general information about the Young Offender Initiative: Reentry Grant Program Application Package, which includes the Program Announcement, required forms, and instructions on how to apply, from the U.S. Department of Justice Response Center at 1-800-421-6770. The Application Package is also available at: OJP's Web site at http://www.ojp.usdoj.gov/fundopps.htm; DOL's Web site at http://wdsc.doleta.gov/sga; and SAMHSA's Web site at http://www.samhsa.gov/funding/funding.html. For general information, contact the DOJ Response Center at 1-800-421-6770. In addition, the partnering agencies may be contacted for substantive assistance:

• For justice-related issues, contact Naydine Fulton-Jones, CPO/OJP, 1-800-638-8736, ext. 46661, e-mail: jonesn@ojp.usdoj.gov;

• For workforce-related issues, contact Susan Rosenblum, DOL, (202) 693-3597, e-mail: srosenblum@doleta.gov;

• For mental health-related issues, contact David Morrissette, CMHS, SAMHSA, (301) 443-2826, e-mail: dmorriss@SAMHSA.gov;

• For substance abuse treatment-related issues, contact Bruce Fry, CSAT, SAMHSA, (301) 443-0128, e-mail: bfry@SAMHSA.gov.

[The last three listings are not toll-free numbers.]

SUPPLEMENTARY INFORMATION: The OJP role in the Young Offender Initiative: Reentry Grant Program is authorized in DOJ by P.L. 106-553, 114 Stat. 2762A-65 (2000); in SAMHSA by 509 and 520A of the P.H.S. Act, as amended; and in DOL by §§ 171 and 172 of P.L. 105-220, 112 Stat. 936 (1998). The program is designed to enhance community safety by successfully reintegrating young offenders into the community by helping them:

• Become productive, responsible, and law-abiding citizens;

• Obtain and retain long-term employment;

• Maintain a stable residence; and

• Successfully address their substance abuse issues and mental health needs.

Grantees may receive up to $3.1 million in funding and technical assistance to establish diverse, public-private partnerships that help young offenders attain these goals. Eligible applicants must be State or local agencies or units of government, Tribal governments, public or private nonprofit entities designated as 501(c)(3) (examples of which are community-based organizations or faith-based organizations), or local Workforce Investment Boards that have formed partnerships with State and local agencies as identified in the Young Offender Initiative: Reentry Grant Program Application Package. Applicants must target a population of young offenders within the age range of 14 to 35 years old who are returning to the community from incarceration (minimum of 12 consecutive months for adults, 6 consecutive months for juveniles) who pose a risk to community safety. Additional guidance regarding the identification of the target population and the composition and responsibilities of the applicant partnerships is provided in the Application Package.

This solicitation is one of two dealing with young offenders. The other solicitation under The Young Offender Initiative is the Demonstration Grant Program which will fund separate awards totaling up to $11.5 million for communities to target young offenders ages 14-24 who are either already involved in the criminal justice system, gang members, or at risk of gang or criminal involvement. This other solicitation will be published in the Federal Register and available on DOL's Web site, http://wdsc.doleta.gov/sga/. Applicants may apply for both solicitations, but are eligible to receive only one award for the same or similar populations.

Note: A Pre-Application Workshop will be held on Wednesday, June 6, 2001, at the Radisson Hotel and Suites Downtown St. Louis, 200 North Fourth Street, St. Louis, MO 63102, (314) 621-8200, to review both the reentry and demonstration grant program applications and discuss reentry programs in general. For more information about this workshop, contact Mary Johnson, KRA, Inc., (301) 562-2300, fax (301) 495-9410, mjohnson@kra.com.

Dated: May 29, 2001.
Mary Lou Leary,
Acting Assistant Attorney General, Office of Justice Programs.
Dated: May 25, 2001.
Richard Kopanda,
Executive Officer, Substance Abuse and Mental Health Services Administration, U.S. Department of Health and Human Services.
Raymond J. Uhalde,
Deputy Assistant Secretary of Labor, Employment and Training Administration, U.S. Department of Labor.

[FR Doc. 01-13822 Filed 5-31-01; 8:45 am]

BILLING CODE 4410-18-P